DEPARTMENT OF COMMERCE

National Oceanic and Atmospheric Administration

[RTID 0648-XD657]

Pacific Fishery Management Council; Public Meeting

AGENCY: National Marine Fisheries Service (NMFS), National Oceanic and Atmospheric Administration (NOAA), Commerce.

ACTION: Notice of public meeting.

SUMMARY: The Pacific Fishery Management Council (Pacific Council) will convene two webinar meetings of its Groundfish Management Team (GMT) and one meeting of its Groundfish Advisory Subpanel (GAP). The first meetings held by the GAP and the meeting of the GMT will discuss items on the Pacific Council's March 2024 meeting agenda. The second meeting of the GMT is to discuss items on the Pacific Council's April 2024 meeting agenda. These meetings are open to the public.

DATES: The GAP online meeting will be held on Wednesday, February 21, 2024, from 1 p.m. to 3 p.m., Pacific Time. The first GMT online meeting will be held on Thursday, February 22, 2024, from 9 a.m. to 12 p.m., Pacific Time. The second GMT online meeting will be held on Tuesday, March 26, 2024, from 9 a.m. to 12 p.m., Pacific Time. The scheduled ending times for these meetings are an estimate. Each meeting will adjourn when business for the day is completed.

ADDRESSES: Both meetings will be held online. Specific meeting information, including directions on how to attend the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Todd Phillips, Staff Officer, Pacific Council; todd.phillips@noaa.gov; telephone: (503) 820-2426.

SUPPLEMENTARY INFORMATION: The primary purpose of the GAP webinar held on February 21, 2024 and the GMT webinar held on February 22, 2024 is to prepare for the Pacific Council's March 2024 meeting agenda items. The advisory bodies are expected to primarily discuss groundfish related matters during this webinar. As time allows, they may potentially discuss ecosystem and administrative matters on the Pacific Council agenda as well.

The primary purpose of the GMT webinar held on March 26, 2024 is to prepare for the Pacific Council's April 2024 meeting agenda items. The GMT will discuss items related to 2025-26 groundfish harvest specifications and management measures, and inseason management on the Pacific Council agenda.

Detailed agendas for the webinars will be available on the Pacific Council's website prior to the meetings. The GAP and GMT may also address other assignments relating to groundfish management. No management actions will be decided by the GMT and GAP.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: January 31, 2024.
Rey Israel Marquez,
Acting Deputy Director, Office of Sustainable Fisheries, National Marine Fisheries Service.

[FR Doc. 2024-02277 Filed 2-5-24; 8:45 am]

BILLING CODE 3510-22-P